DEPARTMENT OF HEALTH AND HUMAN SERVICES

Centers for Disease Control and Prevention

Disease, Disability, and Injury Prevention and Control

Special Emphasis Panel: Pilot Lifestyle Interventions for Pregestational Diabetes or Gestational Diabetes, Potential Extramural Project, PEP 2009-R-02

Correction: This notice was published in the Federal Register on March 25, 2009, Volume 74, Number 56, page 12873. The original notice was published with an incorrect Potential Extramural Project number.

Contact Person for More Information: Linda Shelton, Public Health Analyst, Coordinating Center for Health and Information Service, Office of the Director, CDC, 1600 Clifton Road NE., Mailstop E21, Atlanta, GA 30333. Telephone (404) 498-1194.

The Director, Management Analysis and Services Office, has been delegated the authority to sign Federal Register notices pertaining to announcements of meetings and other committee management activities, for both CDC and the Agency for Toxic Substances and Disease Registry.

Dated: April 9, 2009.
Elaine L. Baker,
Director, Management Analysis and Services Office, Centers for Disease Control and Prevention.

[FR Doc. E9-8947 Filed 4-17-09; 8:45 am]

BILLING CODE 4163-18-P